DEPARTMENT OF COMMERCE

International Trade Administration

[A-570-803]

Heavy Forged Hand Tools From the People's Republic of China: Notice of Court Decision Not in Harmony With Final Results of Administrative Review

AGENCY: Import Administration, International Trade Administration, Department of Commerce.

SUMMARY: On January 18, 2008, the United States Court of International Trade (“CIT”) sustained the remand redetermination issued by the Department of Commerce (“the Department”) pursuant to the CIT's remand order in the final results of the thirteenth administrative review of the antidumping duty orders on heavy forged hand tools from the People's Republic of China. See Ames True Temper v. United States, Slip Op. 08-8 (CIT 2008) (“Ames II”). This case arises out of the Department's final results in the administrative review covering the period February 1, 2003, through January 31, 2004. See Heavy Forged Hand Tools, Finished or Unfinished, With or Without Handles, From the People's Republic of China: Final Results of Antidumping Duty Administrative Reviews and Final Rescission and Partial Rescission of Antidumping Duty Administrative Reviews, 70 FR 54897 (September 19, 2005) (“Final Results”). Consistent with the decision of the United States Court of Appeals for the Federal Circuit (“Federal Circuit”) in Timken Co. v. United States, 893 F.2d 337 (Fed. Cir. 1990) (“Timken”), the Department is notifying the public that Ames II is not in harmony with the Department's Final Results.

EFFECTIVE DATE: January 30, 2008.

FOR FURTHER INFORMATION CONTACT: Paul Walker, AD/CVD Operations, Office 9, Import Administration, International Trade Administration, U.S. Department of Commerce, 14th Street and Constitution Ave., NW., Washington, DC 20230; telephone: (202) 482-0413.

SUPPLEMENTARY INFORMATION: On August 31, 2007, the CIT directed the Department to reopen the record and obtain additional evidence regarding Shandong Huarong Machinery Co., Ltd.'s (“Huarong”) production of metal pallets. See Ames True Temper v. United States, 2007 Ct. Int'l Trade LEXIS 131, Slip Op. 2007-133 (CIT, 2007) (“Ames I”). Pursuant to the Court's remand instructions, we issued supplemental questionnaires on September 19, 2007, and October 19, 2007. Huarong responded to the questionnaires on October 17, 2007, and October 26, 2007, respectively. In the supplemental questionnaires the Department requested: (a) Consumption ratios for all factors of production (“FOPs”) associated with the production of pallets used in packing and shipping heavy forged hand tools; (b) information to select surrogate values for any unreported pallet making FOPs; and, (c) supplier distances for any unreported pallet making FOPs.

The Department released the Draft Results of Redetermination Pursuant to Court Remand (“Draft Redetermination”) to the petitioner, Ames True Temper (“Ames”), and Huarong for comment on November 16, 2007. No party submitted comments. On November 28, 2007, the Department filed its final results of redetermination pursuant to Ames I with the CIT. See Final Results of Redetermination Pursuant to Court Remand, Court No. 05-00581, (November 28, 2007) (“Final Redetermination”), found at http://ia.ita.doc.gov/remands/07-133.pdf. In the remand redetermination, the Department determined that welding wire was consumed in Huarong's pallet making process and that welding wire should have been reported by Huarong as a FOP during the thirteenth review. The Department valued welding wire using publicly available Indian import statistics for February 2003-January 2004 from the World Trade Atlas (“WTA”).¹ Thus, the Department included the cost of welding wire in Huarong's NV, including freight costs associated with Huarong's purchases of the welding wire. On January 18, 2008, the CIT sustained all aspects of the remand redetermination made by the Department pursuant to the CIT's remand of the Final Results.

¹ WTA is published by Global Trade Information Services, Inc., which is a secondary electronic source based upon the publication, Monthly Statistics of the Foreign Trade of India, Volume II: Imports. See http://www.gtis.com/wta.htm.

In its decision in Timken, 893 F.2d at 341, the Federal Circuit held that, pursuant to section 516A(e) of the Tariff Act of 1930, as amended (“the Act”), the Department must publish a notice of a court decision that is not “in harmony” with a Department determination, and must suspend liquidation of entries pending a “conclusive” court decision. As a result of the Department's addition of the welding wire consumed in making steel pallets in the remand redetermination, the CIT's decision in this case on January 18, 2008, constitutes a final decision of the court that is not in harmony with the Department's Final Results. This notice is published in fulfillment of the publication requirements of Timken. Accordingly, the Department will continue the suspension of liquidation of the subject merchandise pending the expiration of the period of appeal or, if appealed, pending a final and conclusive court decision. In the event the CIT's ruling is not appealed or, if appealed, upheld by the Federal Circuit, the Department will instruct U.S. Customs and Border Protection to revise the cash deposit rates covering the subject merchandise.

This notice is issued and published in accordance with section 516A(c)(1) of the Act.

Dated: January 24, 2008.
David M. Spooner,
Assistant Secretary for Import Administration.

[FR Doc. 08-404 Filed 1-29-08; 8:45 am]

BILLING CODE 3510-DS-P